DEPARTMENT OF TRANSPORTATION

Federal Aviation Administration

Notice of Intent To Rule on Application 05-05-C-00-MCI To Impose a Passenger Facility Charge (PFC) at Kansas City International Airport (MCI) for Use at MCI and Charles B. Wheeler Downtown Airport (MKC), Kansas City, MO

AGENCY: Federal Aviation Administration (FAA), DOT.

ACTION: Notice of intent to rule on application.

SUMMARY: The FAA proposes to rule and invites public comment on the application to impose a PFC at MCI for use at MCI and MKC under the provisions of the 49 U.S.C. 40117 and Part 158 of the Federal Aviation Regulations (14 CFR Part 158).

DATES: Comments must be received on or before November 25, 2005.

ADDRESSES: Comments on this application may be mailed or delivered in triplicate to the FAA at the following address: 901 Locust, Kansas City, Missouri 64106.

In addition, one copy of any comments submitted to the FAA must be mailed or delivered to Mr. Mark VanLoh, Director of Aviation of the Kansas City Aviation Department at the following address: 601 Brasilia Avenue, Kansas City, Missouri 64153.

Air carriers and foreign air carriers may submit copies of written comments previously provided to the Kansas City Aviation Department under § 158.23 of Part 158.

FOR FURTHER INFORMATION CONTACT: Lorna K. Sandridge, PFC Program Manager, 901 Locust, Kansas City, Missouri 64106, (816) 329-2641. The application may be reviewed in person at this same location.

SUPPLEMENTARY INFORMATION: The FAA proposes to rule and invites public comment on the application to impose a PFC at Kansas City International Airport for use at Kansas City International Airport and Charles B. Wheeler Downtown Airport under the provisions of the 49 U.S.C. 40117 and Part 158 of the Federal Aviation Regulations (14 CFR Part 158).

On April 27, 2005, the FAA determined that the application to impose and use the revenue from a PFC submitted by the Kansas City Aviation Department was not substantially complete within the requirements of § 158.25 of Part 158. The following items were required to complete the application: Airspace determinations on the new aircraft rescue fire fighting facility, perimeter fencing replacement at MKC, and the upgrade of the glycol collection system. The Kansas City Aviation Department has submitted the supplemental information to complete this application. The FAA will approve or disapprove the application, in whole or in part, not later than February 9, 2006.

The following is a brief overview of the application.

Proposed charge effective date: January 1, 2015.

Proposed charge expiration date: February 1, 2017.

Level of the proposed PFC: $4.50.

Total estimated PFC revenue: $56,946,228.

Brief description of proposed project(s): Two new aircraft rescue fire fighting (ARFF) vehicles, extend Taxiways B and D, rehabilitate Taxiways M and L, update airport master plan and Part 150 study, New ARFF facility, inline baggage screening system, rehabilitate Taxiway D, airfield lighting rehabilitation, perimeter fencing replacement—MKC, terminal improvements—holdrooms, upgrade glycol collection system, airfield snow removal equipment building, new airfield sand & deicer storage building, triturator and garbage facility, fuel farm relocation—MKC.

Class or classes of air carriers which the public agency has requested not to be required to collect PFCs: Nonscheduled/On-Demand Air Carriers filing FAA Form 1800-31.

Any person may inspect the application in person at the FAA office listed above under FOR FURTHER INFORMATION CONTACT and at the FAA regional Airports office located at: 901 Locust, Kansas City, Missouri 64106.

In addition, any person may, upon request, inspect the application, notice and other documents germane to the application in person at the Kansas City Aviation Department.

Issued in Kansas City, Missouri on October 17, 2005.
George A. Hendon,
Manager, Airports Division, Central Region.

[FR Doc. 05-21227 Filed 10-24-05; 8:45 am]

BILLING CODE 4910-13-M